DEPARTMENT OF VETERANS AFFAIRS

Disciplinary Appeals Board Panel

AGENCY: Department of Veterans Affairs.

ACTION: Notification of Disciplinary Appeals Board Panel.

SUMMARY: The Department of Veterans Affairs (VA) Health-Care Personnel Act of 1991 (hereinafter “Act”), Public Law 102-40, revised the disciplinary grievance and appeal procedures for employees appointed under Federal law. It also required the periodic designation of VA employees who are qualified to serve on the Disciplinary Appeals Board. These employees constitute the Disciplinary Appeals Board Panel from which board members in a case are appointed. This notice announces that the roster of employees on the panel is available for review and comment. Employees, employee organizations, and other interested parties shall be provided, upon request and without charge, the list of the employees on the panel, and they may submit comments concerning the suitability of any employee on the panel list.

DATES: The names that appear on the panel roster may be selected to serve on a Disciplinary Appeals Board or as a grievance examiner after August 14, 2025.

FOR FURTHER INFORMATION CONTACT: Ms. Nicole Flood, Office of the Chief Human Capital Officer, (708) 980-3553 or Nicole.Flood@va.gov.

SUPPLEMENTARY INFORMATION: Section 203 of the Act revised the disciplinary grievance and appeal procedures for employees appointed under Federal law. It also required the periodic designation of VA employees who are qualified to serve on the Disciplinary Appeals Board. See 38 U.S.C. 7464(d). The Act requires VA to periodically, but not less than annually, post the roster in the Federal Register. Requests for the panel roster and/or concerns regarding suitability for service on the panel may be emailed to vaco051erpms@va.gov.

Signing Authority

Douglas A. Collins, Secretary of Veterans Affairs, approved and signed this document on July 10, 2025, and authorized the undersigned to sign and submit the document to the Office of the Federal Register for publication electronically as an official document of the Department of Veterans Affairs.

Taylor N. Mattson,
Alternate Federal Register Liaison Officer, Department of Veterans Affairs.

[FR Doc. 2025-13211 Filed 7-14-25; 8:45 am]

BILLING CODE 8320-01-P